DEPARTMENT OF COMMERCE

National Oceanic and Atmospheric Administration

[I.D. 011806F]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings February 6-14, 2006 at the Doubletree Hotel, 18740 Pacific Highway South, Seattle, WA 98188.

DATES: The Council's Advisory Panel (AP) will begin at 8 a.m., Monday, February 6 and continue through Saturday February 11, 2006. The Scientific and Statistical Committee (SSC) will begin at 8 a.m. on Monday February 6 and continue through Wednesday, February 8, 2006.

The Council will begin its plenary session at 8 a.m. on Wednesday, February 8, continuing through February 14, 2006. All meetings are open to the public except executive sessions. The Ecosystem Committee will meet Tuesday, February 7, from 8 am to 12 pm. The Enforcement Committee will meet Tuesday, February 7, from 1 pm to 5 pm.

ADDRESSES: Doubletree Hotel, 18740 Pacific Highway South, Seattle, WA 98188.

Council address: North Pacific Fishery Management Council, 605 W. 4th Avenue, Suite 306, Anchorage, AK 99501-2252.

FOR FURTHER INFORMATION CONTACT: Council staff, Phone: 907-271-2809.

SUPPLEMENTARY INFORMATION: Council Plenary Session: The agenda for the Council's plenary session will include the following issues. The Council may take appropriate action on any of the issues identified.

1. Reports

Executive Director's Report

NMFS Management Report

U.S. Coast Guard Report

Alaska Department of Fish & Game (ADF&G) Report (includes Board of Fisheries (BOF) proposals and creel survey report).

U.S. Fish & Wildlife Service Report

Protected Species Report (update on Consultation process)

2. Improved Retention/Improved Utilization (IR/IU): Final action on Amendment 80 (T).

3. Bering Sea Aleutian Island (BSAI) Pacific Cod Allocations: Initial review of Environmental Assessment/Regulatory Impact (EA/RIR) review.

4. Gulf of Alaska (GOA) Groundfish Rationalization: Review other data and information and revise alternatives/options as appropriate.

5. Observer Program: Committee report and Initial review of EA/RIR.

6. Halibut Guideline Harvest Levels (GHLs): Committee report and Initial review of EA/RIR.

7. American Fisheries Act (AFA): Review 2005 cooperative (co-op) reports and 2006 co-op agreements.

8. Groundfish Management: Chiniak Gully experiment final review of EA; Review Exempted Fishery Permit (EFP); Review Other Species stock assessments (SSC only); Review Species of Concern assessments (SSC only); Lower Trophic Level Modeling Workshop (SSC only); Lower Trophic Level Modeling Workshop (SSC only).

9. Research Priorities: Review and approve.

10. Staff Tasking: Committees and tasking, discuss alternatives to change Maximum Retainable Amount (MRA) for the non-target AFA catcher processor fleet.

11. Other Business

The SSC agenda will include the following issues:

1. BSAI Pacific cod Allocation.

2. Observer Program.

3. Groundfish Management.

4. Research Priorities.

The Advisory Panel will address the same agenda issues as the Council.

Special Accommodations

These meetings are physically accessible to people with disabilities. Requests for sign language interpretation or other auxiliary aids should be directed to Gail Bendixen at 907-271-2809 at least 7 working days prior to the meeting date.

Dated: January 18, 2006.
Emily Menashes,
Acting Director, Office of Sustainable Fisheries, National Marine Fisheries Service.

[FR Doc.E6-732 Filed 1-20-06; 8:45 am]

BILLING CODE 3510-22-S